DEPARTMENT OF AGRICULTURE

Forest Service

Red Pines EIS Project, Nez Perce National Forest, Idaho County, ID

AGENCY: Forest Service, USDA.

ACTION: Notice; intent to prepare environmental impact statement.

SUMMARY: The Forest Service will prepare an environmental impact statement to disclose the environmental impacts of implementing fuel hazard reduction and watershed improvement activities within the Red Pines project area in the Red River watershed. Individuals interested in actions of this nature are encouraged to submit comments and become involved in the planning process.

DATES: Comments concerning the scope of the analysis should be received at the address below on or before July 14, 2003.

ADDRESSES: Send written comments to Bruce Bernhardt, Forest Supervisor, Route 2, Box 475, Grangeville, ID 83530.

FOR FURTHER INFORMATION CONTACT: Kara Chadwick, Project Coordinator, and (208) 983-1950.

SUPPLEMENTARY INFORMATION: The Red Pines project area is located on the Nez Perce National Forest in northern Idaho within Idaho County. The project area lies about 34 air miles southeast of Grangeville Idaho and three air miles southeast of Elk City Idaho. The project area encompasses 31,466 acres and includes Dawson, Little Moose, Blanco and Ditch Creeks and Lower and Main Red River subwatersheds, and small portions of Trail, Soda and Moose Butte Creeks subwatersheds, which drain into Red River, which drains directly into the South Fork Clearwater River.

The actions proposed for implementation would reduce existing and potential fuel loads through the following activities:

A combination of thinning and/or salvaging and underburning on approximately 4,760 acres. This combination would result in some regeneration (clearcut) harvest. A combination of tractor and cable yarding systems would be used.

Approximately 1,645 acres of plantations, 20-50 years in age, would be thinned and underburned, favoring fire resistant species. A combination of tractor and cable yarding systems would be used.

Approximately 100 acres of 15-20 year old plantations would be precommercially thinned.

Approximately 25 miles of temporary road would be constructed to access the fuel hazard reduction areas described above. These roads would be decommissioned following activities.

Approximately 18 miles of existing roads would be reconditioned prior to use for fuel hazard reduction activities.

As part of this project, activities would be implemented to meet Forest Plan requirements for upward trend in fish habitat and water quality. The following activities would maintain or improve aquatic conditions in the subwatersheds in the project area:

Restore soil productivity on 175 to 350 acres through soil restoration techniques, such as decompaction, revegetation, and reestablishing natural drainage features.

Reduce erosion and water quality impacts at four inactive mine sites, using techniques such as reshaping of disturbed areas, soil amendments, revegetation, and possibly treatment of water draining from adits.

Reduce sediment production from existing and temporary roads planned for use in this project. These activities would include improving the road surface, improving drainage and stabilizing eroding areas.

Decommission 40 to 45 miles of existing road that do not improve access to the area for public recreation or administrative use, using techniques ranging from abandonment to recontouring.

Reduce erosion and water quality impacts from an existing rock pit.

Replace three culverts identified as barriers to fish passage.

Replace as many culverts (85 identified) as possible to prevent them from becoming plugged with debris.

Add large woody debris to stream channels where they have been determined to be debris deficient.

Plant riparian areas with native grasses, forbs and woody species where needed to promote bank stability and/or streamside shade.

Maintain existing fish habitat improvement structures in the main stem of Red River. This would involve mostly handwork, but could include machine work.

Improve two miles of Red River and one mile of Little Moose Creek by placing large woody debris or other structures in the stream, remeandering selected channel reaches, stabilizing banks and planting riparian areas.

Improve dispersed sites in the Blanco area along Red River by defining and hardening campsites to reduce sediment runoff, providing vault-type toilets to reduce pollutants into Red River, and providing a parking area, an unloading ramp, hitching rails and a feed bunk.

Two Forest Plan amendments are necessary to implement fuel hazard reduction activities.

Past activities have caused detrimental soil disturbance in some areas proposed for fuel hazard reduction activities. The proposed amendment would state, “Where detrimental soil conditions from past activities affect 15 percent or less of the activity area, a cumulative minimum of 85 percent of the activity area shall not be detrimentally compacted, displaced, or puddled upon completion of activities” and “Where detrimental soil conditions from past activities affect more than 15 percent of the activity area, the cumulative detrimental soil disturbance from project implementation and past activities shall not exceed the conditions prior to the planned activity and shall provide a net improvement in soil quality.”

A second Forest Plan amendment is necessary to implement projects in Ditch, Trail, Bridge, Baston and Soda Creeks and in Upper and Main Red River. Appendix A of the Forest Plan states that “Management—derived sediment which could affect fish habitat will not be allowed until monitoring indicates that habitat has recovered to planned levels.” The proposed activities, including the aquatic improvement activities, are expected to produce some sediment in the short term that could affect fish habitat, however, the activities would be designed to result in an upward trend in fish habitat conditions over time.

The following footnote would apply to Siegel, Deadwood, Redhorse, Dawson, Moose Butte, Ditch, Trail, Otterson, Bridge, Upper Baston, Soda, Shcooner and Trapper Creeks and Upper Main, Main, Lower, Lower South Fork, Upper South Fork, Middle Fork and West Fork of Red River, as listed in Appendix A of the Nez Perce Forest Plan:

“Aquatic conditions in these watersheds have been determined to fall below levels needed to meet fish/water quality objectives. General forest management activities can occur concurrently with aquatic improvements in these watersheds as long as an upward trend in habitat carrying capacity is indicated. Upward trend is indicated using multiple sources of information including stream surveys, monitoring data, predictive modeling, literature reviews and/or professional judgment. It is not specifically required that an upward trend be demonstrated through monitoring prior to initiation of general forest management activities.”

Five subwatersheds (French Gulch, Lowest Red River, and Campbell, Little Moose and Blanco Creeks) within the Red River watershed have not been rated for water quality conditions. Water quality ratings for these subwatersheds need to be completed on a site- or project-specific basis. If these subwatersheds are determined to be below objective, the footnote described above would apply.

A scoping letter outlining these actions described here is being mailed to over 200 interested individuals and organizations. In addition, the Red River District will host an informal, open house session the evening of June 17, 2003 to answer questions and solicit comments on the proposal. A field trip to the project area is being planned for August 2003. The Draft Environmental Impact Statement will be mailed to all those who responded during the scoping period.

The Interdisciplinary Team has identified five preliminary issues associated with potential effects on the proposed activities: Potential effects of the activities on lynx and lynx habitat; potential effects of the activities on the Region One listed sensitive plant known as candystick; potential effects of the activities on soil productivity; potential effects of the activities on threatened, endangered and sensitive fish, fish habitat and water quality; consistency with the anticipated Total Maximum Daily Load (TMDL) for the 303(d) listed South Fork Clearwater River; and reduction in miles of road and access to the area.

The decision to be made in response to this analysis include: (1) Are fuel hazard reduction activities needed, and if so, where, when and how would they be implemented? (2) What transportation system is necessary in the analysis area and how will it be managed? (3) Are the fish habitat and water quality improvement activities for Forest Plan upward trend requirements needed, and if so, where, when and how would they be implemented? (4) What mitigation is needed to assure forest management activities are consistent with the Nez Perce Forest Plan and environmental law? (5) Are amendments to the Nez Perce Forest Plan necessary to implement the proposed actions? (6) What implementation and effectiveness monitoring is needed?

The responsible official for this project is the Nez Perce Forest Supervisor. Comments to this notice should be sent to the address and contacts identified above and should be submitted within 30 days of publication of this notice in the Federal Register. A Draft Environmental Impact Statement (EIS) is expected to be available in January 2004 and a Final EIS in April 2004. Should an action alternative be selected, implementation could be initiated in fall/winter 2004.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments during this scoping and on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.).

Dated: June 3, 2003.
Bruce E. Bernhardt,
Forest Supervisor, Nez Perce National Forest.

[FR Doc. 03-14727 Filed 6-12-03; 8:45 am]

BILLING CODE 3410-11-M